DEPARTMENT OF THE INTERIOR

Bureau of Ocean Energy Management

[Docket No. BOEM-2021-0044]

Commercial Leasing for Wind Power Development on the Outer Continental Shelf (OCS) Offshore Morro Bay, California, East and West Extensions—Call for Information and Nominations (Call or Notice)

AGENCY: Bureau of Ocean Energy Management (BOEM), Interior.

ACTION: Call for information and nominations; request for comments.

SUMMARY: This Call is published to solicit public input and industry interest on potential offshore wind energy development on areas adjacent to the Morro Bay Call Area previously identified in 2018. These new areas are within a 399-square-mile area located off central California, identified as the Morro Bay 399 Area.

DATES: BOEM must receive nominations and public comments by September 13, 2021.

ADDRESSES: Submit nominations for a lease area following the instructions in section 7, “Required Nomination Information,” under SUPPLEMENTARY INFORMATION to: BOEM, Office of Strategic Resources, 760 Paseo Camarillo (Suite 102), Camarillo, California 93010.

Comments and other information may be submitted by either of the following two methods:

1. Federal eRulemaking Portal: http://www.regulations.gov. In the search box, enter BOEM-2021-0044 and then click “search.” Follow the instructions to submit public comments and view supporting and related materials available for this notice.

2. U.S. Postal Service or other delivery service. Send your comments and information to the following address: Bureau of Ocean Energy Management, Office of Strategic Resources, 760 Paseo Camarillo (Suite 102), Camarillo, California 93010.

All submissions, including any personally identifiable information included in your comment, will be reported on http://www.regulations.gov. For additional information on sending comments and protecting your confidentiality, see section 8, “Protection of Privileged or Confidential Information,” under SUPPLEMENTARY INFORMATION.

FOR FURTHER INFORMATION CONTACT: Jean Thurston-Keller, BOEM California Intergovernmental Renewable Energy Task Force Coordinator, BOEM, Office of Strategic Resources, 760 Paseo Camarillo (Suite 102), Camarillo, California 93010, (805) 384-6303, or jean.thurston-keller@boem.gov.

SUPPLEMENTARY INFORMATION:

Authority

This Call is published pursuant to 43 U.S.C. 1337(p)(3) and the implementing regulations at 30 CFR part 585.

Call Area

The call areas described in this notice are located on the OCS offshore central California and are delineated as the Morro Bay Call Area East Extension and the Morro Bay Call Area West Extension (together, the Call Area Extensions). These areas include 2 whole OCS blocks and 221 partial blocks and comprise approximately 141 square statute miles (mi) (90,025 acres). BOEM will identify which, if any, portions of the Call Area Extensions and the Morro Bay Call Area will undergo environmental analysis and consideration for leasing as part of area identification (Area ID) during the competitive leasing process. Section 5, “Description of the Area,” provides a detailed description and developmental history of the Call Area Extensions.

Purpose of the Call for Information and Nominations

The OCS Lands Act requires BOEM to award leases competitively unless BOEM determines that there is no competitive interest (43 U.S.C. 1337(p)(3)). On October 19, 2018, BOEM published a call for information and nominations to solicit commercial interest in wind energy leases within three areas identified offshore California (83 FR 53096).

In this current notice, BOEM solicits information on the Call Area Extensions, as well as new nominations of commercial interest from entities that were not previously qualified by BOEM and did not submit a nomination for the Morro Bay Call Area in 2018. Entities who submitted nominations of commercial interest for the Morro Bay Call Area in 2018 do not need to respond to this Call unless they want to nominate portions of the Call Area Extensions.

BOEM determined that competitive interest existed in the Morro Bay Call Area after reviewing the nominations submitted in 2018. BOEM assumes that competitive interest will be expressed in the Call Area Extensions described in this notice given their geographical proximity to the Morro Bay Call Area. Depending on the comments received in response to this Call, BOEM may or may not proceed with the competitive leasing process set forth in 30 CFR 585.211 through 585.225. This process is explained in detail in section 3, “BOEM's Planning and Leasing Process.”

A lease does not grant the lessee the right to construct any facilities on the leasehold. Rather, the lease grants the lessee the exclusive right to submit site assessment and construction and operations plans to BOEM, which BOEM may approve, modify, or disapprove. The lessee must obtain BOEM's approval of its plans before it may proceed to the next stage of the process (30 CFR 585.600 and 585.601).

BOEM's leasing process includes opportunities for the public to provide input, and any proposed leasing actions will be reviewed thoroughly for potential environmental impacts and multiple use conflicts. The areas that may be offered for lease, if any, have not yet been determined and may include less than the total footprint of the Call Area Extensions.

Although this notice is not itself a leasing announcement, the area described herein, or portions thereof, may be available for future leasing. Parties wishing to submit a nomination of commercial interest in response to this Call should submit detailed and specific information in response to the requirements described in section 7, “Required Nomination Information.” This notice also requests comments and information regarding site conditions, resources, and multiple uses in close proximity to, or within, the Call Area Extensions that would be relevant to BOEM's review of the nominations and to any subsequent decision whether to offer all or part of the Call Area Extensions for commercial wind energy leasing. Information that BOEM is requesting is described in section 6, “Requested Information from Interested or Affected Parties.”

1 Background

On October 19, 2018, BOEM published a call for information and nominations in the Federal Register (2018 Call) that identified three (3) geographically distinct call areas on the OCS offshore California, delineated as the Humboldt Call Area offshore the north coast and the Morro Bay Call Area and the Diablo Canyon Call Area offshore the central coast.

Based on the 2018 Call, BOEM previously decided to move forward with the leasing process for the Humboldt Call Area. That area is not addressed in this notice.

Following the 2018 Call, the Morro Bay and Diablo Canyon Call Areas were initially assessed as incompatible for wind energy development by the U.S. Department of Defense (DoD). However, after that initial assessment, BOEM, the State of California, various California elected officials, the National Oceanic and Atmospheric Administration's Office of National Marine Sanctuaries (ONMS) and DoD continued discussions and stakeholder outreach to find a solution that accommodated offshore wind development on the central coast and DoD's mission requirements. More information and results of these meetings and outreach can be viewed at: https://www.boem.gov/renewable-energy/state-activities/public-information-meetings-and-outreach-efforts.

In May 2021, the Department of the Interior, DoD, and the State of California agreed to advance areas for possible wind energy development offshore the northern and central coasts of California, enabling a path forward for the Humboldt Call Area and areas within and adjacent to the Morro Bay Call Area (https://www.doi.gov/pressreleases/biden-harris-administration-advances-offshore-wind-pacific). With this notice, BOEM is examining the Call Area Extensions adjacent to the Morro Bay Call Area but is not considering the Diablo Canyon Call Area.

After reviewing the information received in response to this Call, BOEM may combine all or portions of the Call Area Extensions with all or portions of the Morro Bay Call Area into one or more Wind Energy Areas (WEA) that would be subject to environmental analysis and consideration for leasing. It is unnecessary for those who previously nominated areas within the 2018 Morro Bay Call Area to do so again.

1.1 The Energy Policy Act of 2005 (EPAct)

The EPAct amended the OCS Lands Act by adding subsection 8(p),¹ which authorizes the Secretary of the Interior to grant leases, easements, and rights-of-way (ROWs) on the OCS for activities not previously authorized by the OCS Lands Act or other applicable law. Under subsection 8(p)(1)(C), the Secretary may issue leases for activities that produce or support production, transportation, or transmission of energy from sources other than oil or gas, including renewable energy sources. The Secretary delegated this authority to issue leases, easements, and ROWs to the Director of BOEM.

¹ Codified at 43 U.S.C. 1337(p).

1.2 Offshore Wind Energy Planning Efforts in California

BOEM appreciates the importance of coordinating its planning with relevant Federal agencies, Tribes, State agencies, and other OCS users. BOEM and the State of California, through the leadership of the California Energy Commission, have engaged in a collaborative, data-based offshore wind energy planning process in order to foster coordinated and informed decisions about California's shared ocean resources and the many users who depend on them. This outreach has consisted of numerous public meetings, webinars, and briefings with coastal communities, fishing communities, federally and non-federally recognized Tribes, State and Federal agencies, academia, scientists, environmental non-governmental organizations, and the offshore renewable energy industry. The summary report on this outreach can be viewed at: https://www.boem.gov/California-Outreach-Summary-Report/. Additional information gathered by BOEM and the State of California during the offshore wind energy planning process, including maps and spatially represented data, is available online at: https://caoffshorewind.databasin.org/.

1.3 BOEM California Intergovernmental Renewable Energy Task Force

At the request of Governor Brown, BOEM established an intergovernmental renewable energy task force with California in 2016 (Task Force) to facilitate coordination among relevant Federal agencies and affected Tribal, State, and local governments throughout the leasing process. The Task Force met three times: October 13, 2016; September 17, 2018; and March 9, 2020. Meeting materials are available on the BOEM website at: https://www.boem.gov/California/.

1.4 Actions Taken by the State of California in Support of Renewable Energy Development

In 2002, the State of California established a renewables portfolio standard (RPS), which establishes how much of California's electricity should be powered by renewable energy resources. California expanded the RPS in 2015 through passage of the Clean Energy and Pollution Reduction Act, and through passage of Senate Bill 100 (SB 100), the 100 Percent Clean Energy Act of 2018. SB 100 increased the State's RPS to 50 percent by 2025 and 60 percent by 2030, and provides that renewable energy resources and zero-carbon resources supply 100 percent of retail sales of electricity to California end-use customers and 100 percent of electricity procured to serve state agencies by December 31, 2045. California's RPS is one of the most ambitious renewable energy standards in the country. Additional information about California's RPS is available at: https://www.cpuc.ca.gov/industries-and-topics/electrical-energy/electric-power-procurement/rps and https://www.energy.ca.gov/programs-and-topics/programs/renewables-portfolio-standard. The full text of SB 100 is available at: https://leginfo.legislature.ca.gov/faces/billNavClient.xhtml?bill_id=201720180SB100.

2 BOEM's Environmental Review Process

Prior to deciding whether and where leases may be issued, BOEM will prepare an environmental assessment (EA) and conduct appropriate consultations to consider the environmental consequences associated with issuing commercial wind energy leases. As any lease that BOEM intends to issue would not grant the right to construct any facilities within the leasehold, the EA will consider the environmental consequences associated with leasing, site assessment, and site characterization activities (including geophysical, geotechnical, archaeological, and biological surveys). If BOEM issues a lease and the lessee proposes the construction and operation of offshore wind energy facilities, BOEM will identify, analyze, and consider the environmental effects of such construction and operation through a separate, project-specific process under the National Environmental Policy Act (NEPA), which will include additional opportunities for public involvement. At that time, BOEM also will conduct further coordination and consultation, including, but not limited to, those which may be required under the Coastal Zone Management Act, Endangered Species Act, the Magnuson-Stevens Fishery Conservation and Management Act, section 106 of the National Historic Preservation Act (NHPA), and Executive Order 13175 (“Consultation and Coordination With Tribal Governments”).

3 BOEM's Planning and Leasing Process

3.1 Determination of Competitive Interest

As stated in 43 U.S.C. 1337(p)(3), “the Secretary shall issue a lease, easement, or right-of-way . . . on a competitive basis unless the Secretary determines after public notice of a proposed lease, easement, or right-of-way that there is no competitive interest.” Accordingly, BOEM must first determine whether competitive interest exists in the Call Area Extensions for the purpose of offshore wind energy development. At the conclusion of the comment period for the 2018 Call, BOEM reviewed the 14 nominations received and determined competitive interest existed in the Morro Bay Call Area. BOEM may proceed with competitive leasing as described in section 3.2, “Competitive Leasing Process.”

BOEM will not issue any leases until it has completed the necessary consultations and environmental analysis and given the public an opportunity to comment. BOEM reserves the right to determine which, if any, of the nominated areas within the Morro Bay Call Area and Call Area Extensions will be leased and to modify such areas from their original, proposed description before offering them for lease.

3.2 Competitive Leasing Process

If, BOEM proceeds with the competitive leasing process for certain areas after receiving nominations and responses to this Call, BOEM will follow the steps required by 30 CFR 585.211 through 585.225.

(1) Area Identification: After reviewing the information submitted in response to this Call, BOEM may combine all or portions of the Call Area Extensions with all or portions of areas identified in response to the 2018 Call into one or more WEA, subject to environmental analysis in consultation with appropriate Federal agencies, Tribes, States, local governments, and other interested parties.

(2) Proposed Sale Notice (PSN): If BOEM decides to proceed with a competitive lease sale within a WEA after its environmental analysis, BOEM will publish a PSN in the Federal Register with a comment period of 60 days. The PSN will describe each lease area BOEM intends to offer, the proposed conditions of a lease auction, the proposed lease auction format, and the lease document, including lease addenda. Additionally, the PSN will describe the criteria and process for evaluating bids in the lease sale.

(3) Final Sale Notice (FSN): After considering the comments on the PSN, if BOEM decides to proceed with a competitive lease sale, BOEM will publish the FSN in the Federal Register at least 30 days before the date of the lease sale.

(4) Bid Submission and Evaluation: Following publication of the FSN, BOEM will offer each lease area through a competitive sale process, using procedures specified in the FSN. BOEM will ensure that bidders have complied with all applicable regulations. BOEM reserves the right to reject any or all bids or to withdraw an offer to lease an area, even after bids have been submitted.

(5) Issuance of a Lease: Following BOEM's selection of the winning bid on a lease area, BOEM will notify the successful bidder and provide that bidder with a set of official lease documents for signature. The successful bidder will be required to sign and return the lease documents, pay the remainder of the bid, if applicable, and file the required financial assurance within 10-business days of receiving the lease documents. Upon receipt of the required payments, financial assurance, and properly signed lease documents, BOEM may execute a lease with the successful bidder.

4 Development of the Call Area Extensions

In coordination with the State of California, BOEM held multiple stakeholder outreach meetings in central California to obtain input into the development of additional areas in and around the Morro Bay Call Area identified in 2018 and to gather data and information to use in BOEM's decision-making process. BOEM, the State of California, State elected officials, ONMS, and DoD conducted additional outreach and engagement to determine if any additional areas in and around the Morro Bay Call Area should be considered for potential leasing. More information on these meetings and outreach can be viewed at: https://www.boem.gov/renewable-energy/state-activities/public-information-meetings-and-outreach-efforts. The DoD expressed concerns regarding military activities and compatibility with offshore wind energy development during these meetings and outreach.

The DoD conducts offshore testing, training, and operations on the OCS offshore the central coast of California. Because the DoD testing, training, and operations off the coast of California are essential to national security, DoD played a critical role in identifying these new areas for offshore wind development. The Department of the Interior, in close coordination with the DoD, identified the Call Area Extensions to advance the planning for wind energy development offshore Morro Bay (https://www.doi.gov/pressreleases/biden-harris-administration-advances-offshore-wind-pacific). Through this Call, BOEM requests information and nominations regarding the Call Area Extensions so that potential use conflicts can be analyzed and considered in the Area ID stage of the leasing process.

BOEM's subsequent analysis during Area ID will evaluate the Call Area Extensions and the Morro Bay Call Area for appropriateness for offshore wind energy development, balanced against potential ocean user conflicts. After conducting environmental reviews and associated consultations, analyzing public comments, and coordinating with other government agencies through the Task Force, BOEM anticipates developing and incorporating terms and conditions—including any measures necessary to mitigate impacts—at the leasing and site assessment and characterization phases. This Call allows additional stakeholders to provide input on the Call Area Extensions prior to further modification during the Area ID process.

5 Description of the Area

The Call Area Extensions are described geographically in this section. A map of the Call Area Extensions, the Morro Bay Call Area, and associated GIS files, which are located in UTM Zone 10N, NAD 83 Datum, can be found at the following URL: https://www.boem.gov/California/.

Morro Bay Call Area East Extension

The boundary of Morro Bay Call Area East Extension begins 21 mi offshore Cambria, California. The area is about 7 mi in length from north to south and about 3 mi in width from east to west. The entire area is approximately 23 square mi (14,589 acres) and is described in the table below:

Area | Official protraction diagram name | Official protraction diagram No. | Block number | Sub-block
East Extension | San Luis Obispo | NI10-03 | 6457 | G, H, K, L, P.
East Extension | San Luis Obispo | NI10-03 | 6458 | E, F, I, J, M, N, O.
East Extension | San Luis Obispo | NI10-03 | 6508 | A, B, C, D, E, F, G, H, J, K, L, O, P.
East Extension | San Luis Obispo | NI10-03 | 6509 | E, I, J, M, N, O.
East Extension | San Luis Obispo | NI10-03 | 6558 | D.
East Extension | San Luis Obispo | NI10-03 | 6559 | A, B, C, D, E, F, G, H.
East Extension | San Luis Obispo | NI10-03 | 6560 | E.

Morro Bay Call Area West Extension

The boundary of Morro Bay Call Area West Extension begins 35 mi offshore Cambria, California. The area is about 23 mi in length from north to south and about 11 mi in width from east to west. The entire area is approximately 118 square mi (75,436 acres) and is described in the table below:

Area | Official protraction diagram name | Official protraction diagram No. | Block No. | Sub-block
West Extension | San Luis Obispo | NI10-03 | 6251 | A, E, F, G, I, J, M, N.
West Extension | San Luis Obispo | NI10-03 | 6301 | A, B, E, F, I, J, N.
West Extension | San Luis Obispo | NI10-03 | 6451 | M.
West Extension | San Luis Obispo | NI10-03 | 6501 | A, E, F, I, J, K, L, N, O, P.
West Extension | San Luis Obispo | NI10-03 | 6502 | M, N, O, P.
West Extension | San Luis Obispo | NI10-03 | 6503 | J, M, N, O, P.
West Extension | San Luis Obispo | NI10-03 | 6551 | C, D, H.
West Extension | San Luis Obispo | NI10-03 | 6552 | A, B, C, D, E, F, G, H, I, J, K, L.
West Extension | San Luis Obispo | NI10-03 | 6553 | A, B, C, D, E, F, G, H, I, J, K, L.
West Extension | San Luis Obispo | NI10-03 | 6554 | A, B, C, E, F, G, H, I, J, K, L.
West Extension | San Luis Obispo | NI10-03 | 6555 | E, F, I, J, K.
West Extension | Sur Canyon | NI10-02 | 6237 | C, D, H, L, P.
West Extension | Sur Canyon | NI10-02 | 6238 | A, B, C, E, F, G, H, I, J, K, L, M, N, O, P.
West Extension | Sur Canyon | NI10-02 | 6239 | E, F, I, J, K, L, M, N, O, P.
West Extension | Sur Canyon | NI10-02 | 6240 | M, N, O.
West Extension | Sur Canyon | NI10-02 | 6288 | B, C, D, F, G, H, J, K, L, P.
West Extension | Sur Canyon | NI10-02 | 6289 | All.
West Extension | Sur Canyon | NI10-02 | 6290 | All.
West Extension | Sur Canyon | NI10-02 | 6339 | D, H, L, P.
West Extension | Sur Canyon | NI10-02 | 6340 | A, B, C, D, E, F, G, H, I, J, K, L, M, N.
West Extension | Sur Canyon | NI10-02 | 6389 | B, C, D, F, G, H, J, K, L, N, O, P.
West Extension | Sur Canyon | NI10-02 | 6390 | A, E, I.
West Extension | Sur Canyon | NI10-02 | 6439 | B, C, D, G, H, K, L, P.
West Extension | Sur Canyon | NI10-02 | 6440 | E, I, M.
West Extension | Sur Canyon | NI10-02 | 6489 | D.
West Extension | Sur Canyon | NI10-02 | 6490 | A, B, E, F, G, J, K, L, N, O, P.
West Extension | Sur Canyon | NI10-02 | 6540 | C, D, H.

6 Requested Information From Interested or Affected Parties

BOEM requests specific and detailed comments from the public and interested or affected parties regarding the following:

1. Geological, geophysical, and biological conditions (including bottom and shallow hazards and live bottoms) in the Call Area Extensions.

2. Known archaeological or cultural resource sites on the seabed in the Call Area Extensions.

3. Historic properties potentially affected by site characterization and assessment or commercial wind energy development in the Call Area Extensions. This information will inform BOEM's review of future undertakings under section 106 of NHPA and under NEPA.

4. Other uses of the Call Area Extensions, including navigation (in particular, commercial and recreational vessel use), recreation, and fisheries (commercial and recreational).

5. Additional information regarding recreational and commercial fisheries that operate within the Call Area Extensions, including, but not limited to, the use of the area, the fishing gear types used, seasonal use, and suggestions for reducing use conflicts.

6. Available and pertinent data and information concerning renewable energy resources and environmental conditions in and around the Call Area Extensions. Where applicable, spatial information should be submitted in a format compatible with ArcGIS 10.5 in a geographic coordinate system (NAD 83).

7. Information relating to the visual resources and aesthetics of the Call Area Extensions, the potential impacts of wind turbines located within the Call Area Extensions to those resources, and potential strategies to help mitigate or minimize any visual effects.

8. Relevant socioeconomic, biological, and environmental information.

9. Any other relevant information BOEM should consider during its planning and decision-making process for the purpose of issuing leases in the Call Area Extensions.

7 Required Nomination Information

All interested entities should submit their nomination for any possible commercial wind energy lease area within the Call Area Extensions in response to this Call. If you intend to submit one or more nominations, you must provide the following information for each nomination:

1. The BOEM Protraction Diagram name and number, and the specific whole or partial OCS blocks within the Call Area Extensions that you are interested in leasing, inclusive of any potential buffers with adjacent leases. This information should be submitted as a spatial file compatible with ArcGIS 10.5 in a geographic coordinate system (NAD 83) in addition to your hard copy submittal. If a proposed lease area includes one or more partial blocks, please describe those partial blocks in terms of a sixteenth (i.e., sub-block) of an OCS block.

2. A description of your objectives and the facilities that you would use to achieve those objectives.

3. A preliminary schedule of proposed activities, including those leading to commercial operations.

4. Available and pertinent data and information concerning renewable energy resources and environmental conditions in any area that you nominate, including energy and resource data and information used to evaluate the area. Where applicable, spatial information should be submitted in a format compatible with ArcGIS 10.5 in a geographic coordinate system (NAD 83).

5. Documentation demonstrating that you are legally qualified to hold a lease, as set forth in 30 CFR 585.106 and 585.107(c). Examples of the documentation appropriate for demonstrating your legal qualifications and related guidance can be found in Chapter 2 and Appendix B of the BOEM Renewable Energy Framework Guide Book available at https://www.boem.gov/sites/default/files/documents/about-boem/Qualification%20Guidelines.pdf. Legal qualification documents will be placed in an official file that may be made available for public review. If you wish that any part of your legal qualification documentation be kept confidential, clearly identify what should be kept confidential, and submit it under separate cover (see section 8, “Protection of Privileged or Confidential Information”). Entities who submitted nominations of interest for the Morro Bay Call Area in response to the 2018 Call do not need to submit this information again.

6. Documentation demonstrating that you are technically and financially capable of constructing, operating, maintaining, and decommissioning the facilities described in 7(2) above, as set forth in 30 CFR 585.107(a). Guidance regarding the required documentation to demonstrate your technical and financial qualifications can be found at: http://www.boem.gov/Renewable-Energy-Program/Regulatory-Information/QualificationGuidelines-pdf.aspx. Entities who submitted nominations of interest for the Morro Bay Call Area in response to the 2018 Call do not need to submit this information again.

7. Any documentation you submit to demonstrate your legal, technical, and financial qualifications must be provided to BOEM in both paper and electronic formats. BOEM considers an Adobe PDF file on a storage media device to be an acceptable format for an electronic copy.

You are not required to submit a nomination in response to this Call to participate in a potential future competitive lease sale offshore California. However, you will be required to demonstrate to BOEM that you are legally, technically, and financially qualified to hold a BOEM-issued renewable energy lease before you will be allowed to participate in a competitive lease sale. To ensure that BOEM has sufficient time to process your qualifications package, you should submit this package before or during the PSN 60-day public comment period. More information can be found at: http://www.boem.gov/Renewable-Energy-Program/Regulatory-Information/QualificationGuidelines-pdf.aspx.

BOEM will list the parties that submitted nominations and the locations of the proposed lease areas (i.e., OCS blocks nominated) on the BOEM website after the comment period has closed.

8 Protection of Privileged or Confidential Information

8.1 Freedom of Information Act

Under the Freedom of Information Act (FOIA), BOEM will protect the privileged or confidential information that you submit. Exemption 4 of FOIA applies to trade secrets and commercial or financial information that you submit that is privileged or confidential. If you wish to protect the confidentiality of such information, clearly mark it and request that BOEM treat it as confidential. BOEM will not disclose such information if it qualifies for exemption from disclosure under FOIA. Please label privileged or confidential information “Contains Confidential Information” and consider submitting such information as a separate attachment.

BOEM will not treat as confidential any aggregate summaries of such information or comments not containing such information. Additionally, BOEM will not treat as confidential (1) the legal title of the nominating entity (for example, the name of your company), or (2) the list of whole or partial blocks that you are nominating. Information that is not labeled as privileged or confidential will be regarded by BOEM as suitable for public release.

8.2 Personally Identifiable Information

BOEM does not consider anonymous comments; please include your name and address as part of your comment. You should be aware that your entire comment, including your name, address, and any other personally identifiable information that you submit, may be made publicly available at any time. All submissions from identified individuals, businesses, and organizations will be available for public viewing on regulations.gov.

In order for BOEM to withhold from disclosure your personally identifiable information, you must identify any information contained in your comments that, if released, would constitute a clearly unwarranted invasion of your personal privacy. You must also briefly describe any possible harmful consequences of the disclosure of information, such as embarrassment, injury, or other harm.

8.3 Section 304 of the National Historic Preservation Act (54 U.S.C. 307103)

BOEM is required, after consultation with the Secretary, to withhold the location, character, or ownership of historic resources if it determines that disclosure may, among other things, risk harm to the historic resources or impede the use of a traditional religious site by practitioners. Tribal entities should designate information that falls under section 304 of NHPA as confidential.

Amanda Lefton,
Director, Bureau of Ocean Energy Management.

[FR Doc. 2021-16134 Filed 7-28-21; 8:45 am]

BILLING CODE 4310-MR-P